DEPARTMENT OF HEALTH AND HUMAN SERVICES

Office of the National Coordinator for Health Information Technology; HIT Policy Committee's Certification/Adoption Workgroup Meeting; Notice of Meeting

AGENCY: Office of the National Coordinator for Health Information Technology, HHS.

ACTION: Notice of meeting.

This notice announces a forthcoming subcommittee meeting of a Federal advisory committee of the Office of the National Coordinator for Health Information Technology (ONC). The meeting will be open to the public.

Name of Committee: HIT Policy Committee's Certification/Adoption Workgroup.

General Function of the Committee: to provide recommendations to the National Coordinator on a policy framework for the development and adoption of a nationwide health information technology infrastructure that permits the electronic exchange and use of health information as is consistent with the Federal Health IT Strategic Plan and that includes recommendations on the areas in which standards, implementation specifications, and certification criteria are needed. The Certification/Adoption Workgroup is charged with making recommendations to the HIT Policy Committee on issues related to the adoption of certified electronic health records, that support meaningful use, including issues related to certification, health information extension centers and workforce training.

Date and Time: The meeting will be held on July 14, 2009, from 9 a.m. to 4 p.m./Eastern Time, and July 15, 2009, from 9 a.m. to 10 a.m./Eastern Time.

Location: The Park Hyatt Washington Hotel, 24th and M Streets, NW., Washington, DC. The hotel telephone number is 202-789-1234. The meeting will be available via Web cast; visit http://healthit.hhs.gov for instructions on how to listen via telephone or Web.

Contact Person: Judy Sparrow, Office of the National Coordinator, HHS, 330 C Street, SW., Washington, DC 20201, 202-205-4528, Fax: 202-690-6079, e-mail: judy.sparrow@hhs.gov. Please call the contact person for up-to-date information on this meeting. A notice in the Federal Register about last minute modifications that impact a previously announced advisory committee meeting cannot always be published quickly enough to provide timely notice.

Agenda: The committee will be hearing testimony from stakeholder groups, such as purchasers, vendors, and users, on the certification process. ONC intends to make background material available to the public no later than two (2) business days prior to the meeting. If ONC is unable to post the background material on its Web site prior to the meeting, it will be made publicly available at the location of the advisory committee meeting, and the background material will be posted on ONC's Web site after the meeting, at http://healthit.hhs.gov. The meeting will be available via webcast; visit http://healthit.hhs.gov for instructions on how to listen via telephone or Web.

Procedure: Interested persons may present data, information, or views, orally or in writing, on issues pending before the committee. Written submissions may be made to the contact person on or before July 6, 2009. Oral comments from the public will be scheduled between approximately 3 p.m. to 4 p.m. on Tuesday, and 10 and 10:15 a.m. on Wednesday. Time allotted for each presentation may be limited. If the number of speakers requesting to comment is greater than can be reasonably accommodated during the scheduled open public hearing session, ONC will take written comments after the meeting until close of business on that day.

Persons attending Committee meetings are advised that the agency is not responsible for providing access to electrical outlets.

ONC welcomes the attendance of the public at its advisory committee meetings. Seating is limited at the location, and ONC will make every effort to accommodate persons with physical disabilities or special needs. If you require special accommodations due to a disability, please contact Judy Sparrow at least seven (7) days in advance of the meeting.

ONC is committed to the orderly conduct of its advisory committee meetings. Please visit our Web site at http://healthit.hhs.gov for procedures on public conduct during advisory committee meetings.

Notice of this meeting is given under the Federal Advisory Committee Act (Pub. L. 92-463, 5 U.S.C., App. 2).

Dated: June 26, 2009.
Judith Sparrow,
Office of Programs and Coordination, Office of the National Coordinator for Health Information Technology.

[FR Doc. E9-15547 Filed 6-30-09; 8:45 am]

BILLING CODE 4150-45-P